FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
14617N | Asiana Transport Inc., 182-11 150th Road, 2nd Floor, Jamaica, NY 11413 | October 9, 2003.
12757N | Ocean Conco Line, Inc., 39 Broadway, Suite 750, New York, NY 10004 | October 8, 2003.
12190N | Reliable Overseas Shipping & Trading, Inc., 239-241 Kingston Avenue, Brooklyn, NY 11213 | September 5, 2003.
13266N | Trans—Aero—Mar, Inc., 1203 NW 93rd Ct., Miami, FL 33172 | September 17, 2003.
12895N | United Trans-Trade, Inc., 646 Highway 18, Plaza Hill, Bldg. A, Suite 204, East Brunswick, NJ 08816 | August 23, 2001.

Sandra L. Kusumoto,
Director, Bureau of Consumer Complaints and Licensing.

[FR Doc. 03-29612 Filed 11-26-03; 8:45 am]

BILLING CODE 6730-01-P